DEPARTMENT OF AGRICULTURE

U.S. Codex Office

Codex Alimentarius Commission: Meeting of the Codex Committee on Food Labelling

AGENCY: U.S. Codex Office, USDA.

ACTION: Notice of public meeting and request for comments.

SUMMARY: The U.S Codex Office is sponsoring a public meeting on September 1, 2021. The objective of the public meeting is to provide information and receive public comments on agenda items and draft United States (U.S.) positions to be discussed at the 46th Session of the Codex Committee on Food Labelling (CCFL) of the Codex Alimentarius Commission, to be held virtually, September 27-October 1, 2021 with the report adoption on October 7, 2021. The U.S. Manager for Codex Alimentarius and the Acting Deputy Under Secretary for Trade and Foreign Agricultural Affairs recognize the importance of providing interested parties the opportunity to obtain background information on the 46th Session of the CCFL and to address items on the agenda.

DATES: The public meeting is scheduled for September 1, 2021, from 2:00-4:00 p.m. EDT.

ADDRESSES: The public meeting will take place via Video Teleconference only. Documents related to the 46th Session of the CCFL will be accessible via the internet at the following address: http://www.fao.org/fao-who-codexalimentarius/meetings/detail/en/?meeting=CCFL&session=46.

Dr. Douglas Balentine, U.S. Delegate to the 46th Session of the CCFL, invites U.S. interested parties to submit their comments electronically to the following email address: douglas.balentine@fda.hhs.gov.

Registration: Attendees must register to attend the public meeting by emailing uscodex@usda.gov by August 30, 2021. Early registration is encouraged.

For Further Information about the 46th Session of the CCFL, contact U.S. Delegate, Dr. Douglas Balentine, douglas.balentine@fda.hhs.gov.

For Further Information about the public meeting Contact: U.S. Codex Office, 1400 Independence Avenue SW, Room 4861, South Agriculture Building, Washington, DC 20250. Phone (202) 720-7760, Fax: (202) 720-3157, Email: uscodex@usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure fair practices in the food trade.

The Terms of Reference of the Codex Committee on Food Labelling (CCFL) are:

(a) To draft provisions on labeling applicable to all foods;

(b) to consider, amend if necessary, and endorse draft specific provisions on labeling prepared by the Codex Committees drafting standards, codes of practice and guidelines;

(c) to study specific labeling problems assigned to it by the Commission; and,

(d) to study problems associated with the advertisement of food with particular reference to claims and misleading descriptions.

The CCFL is hosted by Canada. The United States attends the CCFL as a member country of Codex.

Issues To Be Discussed at the Public Meeting

The following items on the Agenda for the 46th Session of the CCFL will be discussed during the public meeting:

• Adoption of the Agenda

• Matters referred to the Committee by the CAC and other Codex Subsidiary Bodies

• Matters of interest from FAO and WHO

• Consideration of labeling provisions in draft Codex standards (endorsement)

• Draft Guidance for the Labelling of Non-Retail Containers

• Proposed draft Guidelines on Front-of-Pack Nutrition Labelling

• Proposed draft Guidelines on internet sales/e-commerce

• Proposed draft revision to the General Standard for the Labelling of Prepackaged Foods—Provisions relevant to allergen labeling

• Proposed draft Guidance on Precautionary Allergen Labelling

• Innovation—use of technology in food labelling (discussion paper)

• Labelling of alcoholic beverages (discussion paper)

• Labelling of foods in joint presentation and multipack formats (discussion paper)

• Future work and direction of CCFL (discussion paper) (request for information through CL2020/08-FL)

• Approach and criteria for evaluation and prioritization of work of CCFL (request for comments through CL2020/09/OCS-FL)

Public Meeting

At the September 1, 2021, public meeting, draft U.S. positions on the agenda items will be described and discussed, and attendees will have the opportunity to pose questions and offer comments. Written comments may be offered at the meeting or sent to Dr. Douglas Balentine, U.S. Delegate for the 46th Session of the CCFL (see ADDRESSES). Written comments should state that they relate to activities of the 46th Session of the CCFL.

Additional Public Notification

Public awareness of all segments of rulemaking and policy development is important. Consequently, the U.S. Codex Office will announce this Federal Register publication on-line through the USDA web page located at: http://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (braille, large print, audiotape, etc.) should contact USDA's TARGET Center at (202) 720-2600 (voice and TDD).

Done at Washington, DC, on June 30, 2021.
Mary Lowe,
U.S. Manager for Codex Alimentarius.

[FR Doc. 2021-14347 Filed 7-2-21; 8:45 am]

BILLING CODE P